DEPARTMENT OF COMMERCE

National Oceanic and Atmospheric Administration

50 CFR Part 300

[Docket No. 161223999-7438-03]

RIN 0648-BG61

Pacific Halibut Fisheries; Catch Sharing Plan; Correction

AGENCY: National Marine Fisheries Service (NMFS), National Oceanic and Atmospheric Administration (NOAA), Commerce.

ACTION: Final rule; correction.

SUMMARY: On April 20, 2017, NMFS published a final rule to implement the portions of the Pacific Halibut Catch Share Plan (Plan) and management measures that are not regulated through the International Pacific Halibut Commission (IPHC), including the sport fishery allocations and management measures for the IPHC's regulatory Area 2A off Washington, Oregon, and California (Area 2A). This regulation corrects the opening dates for the 2017 sport fishery in the Columbia River subarea (Leadbetter Point, WA to Cape Falcon, OR); these were incorrect in the original rule.

DATES: This correction is effective June 19, 2017.

FOR FURTHER INFORMATION CONTACT: Gretchen Hanshew, phone: 206-526- 6147, fax: 206-526-6736, or email: gretchen.hanshew@noaa.gov.

SUPPLEMENTARY INFORMATION:

Need for Correction

On April 20, 2017, NMFS published a final rule (82 FR 18581) that implemented the Plan and management measures that are not regulated through the IPHC, including the sport fishery allocations and management measures for the IPHC's regulatory Area 2A. Subsequent to publication in the Federal Register, two typographical errors were noted in the section “2017 Sport Management Measures,” in the Columbia River subarea.

On page 18583, in the last line of the third column, an incorrect date was provided for the opening of the nearshore fishery in the Columbia River subarea. This rule corrects the date to be consistent with the Plan and state regulations. The Plan describes that the nearshore fishery in this subarea opens subsequent to the all-depth fishery, on the first Monday following the opening of the all-depth fishery. State regulations correctly announced the 2017 date that conforms with the Plan framework, Monday, May 8, 2017.

On page 18584, in the fifth line of the first column, an incorrect date was provided for the opening of the all-depth fishery in the Columbia River subarea. This rule corrects the date to be consistent with the Plan and state regulations. The Plan describes that the all-depth fishery in this subarea opens the first Thursday of May, or on May 1 if it is a Friday, Saturday or Sunday. State regulations correctly announced the 2017 date that conforms with the Plan framework, Thursday, May 4, 2017.

The affected states and IPHC staff have been notified of these corrections, and the pending correct dates have been announced on NMFS's halibut hotline (1-800-662-9825 or 206 526-6667). NMFS will not take enforcement action against any individuals who relied on the original, incorrect dates in good faith. Therefore, these corrections are anticipated by the public and the state regulatory agencies, and their implementation will cause no harm.

Correction

In the Federal Register of April 20, 2017 (82 FR 18581), paragraph (8)(d)(i), beginning on page 18583, is corrected to read as follows:

(i) This subarea is divided into an all-depth fishery and a nearshore fishery. The nearshore fishery is allocated 500 pounds of the subarea allocation. The nearshore fishery extends from Leadbetter Point (46°38.17′ N. lat., 124°15.88′ W. long.) to the Columbia River (46°16.00′ N. lat., 124°15.88′ W. long.) by connecting the following coordinates in Washington 46°38.17′ N. lat., 124°15.88′ W. long., 46°16.00′ N. lat., 124°15.88′ W. long. and connecting to the boundary line approximating the 40 fm (73 m) depth contour in Oregon. The nearshore fishery opens Monday, May 8, and continues 3 days per week (Monday-Wednesday) until the nearshore allocation is taken, or September 30, whichever is earlier. The all-depth fishing season commences on Thursday, May 4, and continues 4 days a week (Thursday-Sunday) until 12,799 lb (5.81 mt) are estimated to have been taken and the season is closed by the Commission, or September 30, whichever is earlier. Subsequent to this closure, if there is insufficient quota remaining in the Columbia River subarea for another fishing day, then any remaining quota may be transferred inseason to another Washington and/or Oregon subarea by NMFS via an update to the recreational halibut hotline. Any remaining quota would be transferred to each state in proportion to its contribution.

Classification

Pursuant to 5 U.S.C. 553(b)(B), the Assistant Administrator for Fisheries (AA) finds there is good cause to waive prior notice and an opportunity for public comment on this action, as notice and comment would be unnecessary and contrary to public interest. Notice and comment are unnecessary and contrary to the public interest because this action corrects inadvertent errors in regulations for a fishery that opens on May 4, and immediate notice of the error and correction is necessary to prevent confusion among participants in the fishery that could result from the existing conflict between state and tribal regulations and the final rule. To effectively correct the error, this correction must go into effect as soon as possible, as the affected Pacific halibut sport fisheries open May 4. Thus, there is not sufficient time for notice and comment due to the imminent opening of the fishery. In addition, notice and comment is unnecessary because this action makes only minor changes of which the public, states, and IPHC staff are already aware. This correction will not affect the results of analyses conducted to support management decisions in the Pacific halibut fishery nor change the total catch of Pacific halibut. No change in operating practices in the fishery is required.

For the same reasons stated above, the AA has determined that good cause exists to waive the 30-day delay in effectiveness pursuant to 5 U.S.C. 553(d). Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This final rule is not significant under Executive Order 12866.

Authority: 16 U.S.C. 773-773k; 1801 et seq.

Dated: June 14, 2017.
Alan D. Risenhoover,
Acting Deputy Assistant Administrator for Regulatory Programs, National Marine Fisheries Service.

[FR Doc. 2017-12722 Filed 6-19-17; 8:45 am]

BILLING CODE 3510-22-P